DEPARTMENT OF TRANSPORTATION

Federal Transit Administration

Federal Highway Administration

Supplemental Draft Environmental Impact Statement on Transportation Improvements in the Primary Transportation Corridor of the City and County of Honolulu, HI

AGENCIES: Federal Transit Administration and Federal Highway Administration, DOT.

ACTION: Notice of intent to prepare a Supplemental Draft Environmental Impact Statement (SDEIS).

SUMMARY: The Federal Transit Administration (FTA) and Federal Highway Administration (FHWA), in cooperation with the City and County of Honolulu Department of Transportation Services (DTS), intend to prepare a supplemental draft environmental impact statement (SDEIS) in accordance with the National Environmental Policy Act (NEPA) for proposed transportation improvements in the Primary Transportation Corridor of the City and County of Honolulu. The SDEIS will address the following proposed changes to the Bus Rapid Transit (BRT) Alternative selected as the Locally Preferred Alternative (LPA) by the Honolulu City Council on November 29, 2000:

• Addition of an In-Town BRT branch to serve Aloha Tower Marketplace and Kakaako Makai

• Realignment of a section of the In-Town BRT alignment from Ward Avenue to Pensacola Street

• Change the location of the H-1 BRT ramp from the Kaonohi Street overpass to a section of the freeway near Aloha Stadium

FOR FURTHER INFORMATION CONTACT: Ms. Donna Turchie, Senior Transportation Representative, Office of Planning and Program Development, Federal Transit Administration, Region IX, (415) 744-3115, Dr. Laura Kong, Environmental Specialist, Federal Highway Administration, Hawaii Division, (808) 541-2700, or Ms. Cheryl D. Soon, Director, Department of Transportation Services, City and County of Honolulu, (808) 523-4125.

SUPPLEMENTARY INFORMATION:

I. Background

The DTS is proposing transportation improvements in Oahu's primary transportation corridor. The primary transportation corridor extends from Kapolei in the Ewa District, past Pearl Harbor, Honolulu International Airport, downtown Honolulu, and continues eastward to the University of Hawaii at Manoa and Waikiki. The proposed action is intended to address existing and future transportation demand and capacity needs, support socioeconomic growth, improve public transit services, facilitate land use development, and support current planning activities and policies.

In August 2000, the Primary Corridor Transportation Project Major Investment Study/Draft Environmental Impact Statement (MIS/DEIS) was distributed for public review and comment. It should be noted that the MIS/DEIS Notice of Intent was published in the April 27, 1999 Federal Register and the notice of the availability of the MIS/DEIS for review and comment was published in the September 8, 2000 Federal Register.

On November 29, 2000, the Honolulu City Council selected the BRT Alternative as the Locally Preferred Alternative (LPA).

II. Proposed Changes to the LPA

A supplemental DEIS is being prepared because substantial changes have occurred in the proposed action that are relevant to environmental concerns. In response to comments received on the MIS/DEIS and the project subsequent to the selection of the LPA, the DTS proposes to add an In-Town BRT branch to serve Aloha Tower Marketplace and Kakaako Makai, the area makai of Ala Moana Boulevard. The new branch would begin at the Iwilei Transit Center, travel Koko Head onto Iwilei Road, turn Koko Head on to North King Street, and proceed to the Hotel Street Transit Mall. It then proceeds in the makai direction on Bishop Street to Aloha Tower Drive. From Aloha Tower Drive, the branch continues in the Koko Head direction on Ala Moana Boulevard and then turns in the makai direction onto Channel Street. The branch then turns in the Koko Head direction onto Ilalo Street and then turns in the mauka direction onto Ward Avenue and proceeds until Auahi Street. From this point, the branch follows the LPA Kakaako/Waikiki branch routing to its terminus in Waikiki. In the reverse direction the Kakaako Makai branch travels Ewa from Waikiki following the LPA Kakaako/Waikiki branch until Auahi Street at Ward Avenue. From Auahi Street/Ward Avenue, the Kakaako Makai branch travels Ewa in reverse of the Koko Head direction; except that, at the intersection of Bishop Street/Nimitz Highway, the branch turns Koko Head onto Nimitz Highway, then mauka onto Richards Street, and then follows the LPA Kakaako/Waikiki branch to the Iwilei Transit Center, where the new branch ends. If the STREAM technology is selected for the BRT vehicles, a traction power supply station (TPSS) would be required along the Kakaako Makai Alignment. The TPSS is a structure that houses the electrical equipment used to power the STREAM BRT vehicles.

The second change that will be addressed in the SDEIS is the realignment of a short section of the In-Town BRT alignment from Ward Avenue and Kapiolani Boulevard to South King Street and Pensacola Street.

The LPA included an exclusive H-1 Freeway BRT ramp at the Kaonohi Street overpass and a transit center at the former Kamehameha Drive-in Theater. A reversible BRT ramp from the section of the H-1 Freeway near Aloha Stadium is being proposed instead of these two elements.

III. Probable Effects

The proposed changes are likely to have adverse and beneficial impacts on the environment. It is anticipated at this time that the following issues will be of concern:

• Transportation

• Noise and air quality impacts

• Land use

• Archaeological, historic and cultural resources

• Hazardous materials

• Parks and recreation areas

• Coastal zones

The SDEIS is not intended to repeat all the analyses contained in the project's MIS/DEIS. Most analyses would be limited to the immediate study area of the Kakaako Makai branch, Pensacola Street alignment change, and Aloha Stadium ramp. System-level impacts (i.e., impacts of the entire BRT Alternative) would be discussed in the SDEIS, if the proposed changes would alter the results of any analysis provided in the MIS/DEIS.

Letters describing the proposed action and soliciting comments have been sent to appropriate Federal, State, and local agencies, and to private organizations and citizens who have previously expressed or are known to have interest in this proposal. To ensure that the full range of issues related to this proposed action are addressed and all significant issues identified, comments and suggestions are invited from all interested parties. Comments or questions concerning this proposed action and the EIS should be directed to the FTA, FHWA, or the DTS at the addresses provided above.

(Catalog of Federal Domestic Assistance Program Number 20.205, Highway Research, Planning, and Construction. The regulations implementing Executive Order 12372 regarding intergovernmental consultation on Federal programs and activities apply to this program.)

Issued on: September 20, 2001.
Leslie T. Rogers,
Regional Administrator.

[FR Doc. 01-24090 Filed 9-25-01; 8:45 am]

BILLING CODE 4910-57-M